DEPARTMENT OF HEALTH AND HUMAN SERVICES

Food and Drug Administration

Advisory Committees; Tentative Schedule of Meetings for 2003

AGENCY: Food and Drug Administration, HHS.

ACTION: Notice.

SUMMARY: The Food and Drug Administration (FDA) is announcing a tentative schedule of forthcoming meetings of its public advisory committees for 2003. During 1991, at the request of the Commissioner of Food and Drugs (the Commissioner), the Institute of Medicine (the IOM) conducted a study of the use of FDA's advisory committees. In its final report, one of the IOM's recommendations was for the agency to publish an annual tentative schedule of its meetings in the Federal Register. This publication implements the IOM's recommendation.

FOR FURTHER INFORMATION CONTACT: Theresa Green, Advisory Committee Oversight and Management Staff (HF-4), Food and Drug Administration, 5600 Fishers Lane, Rockville, MD 20857, 301-827-1220.

SUPPLEMENTARY INFORMATION: The IOM, at the request of the Commissioner, undertook a study of the use of FDA's advisory committees. In its final report in 1992, one of the IOM's recommendations was for FDA to adopt a policy of publishing an advance yearly schedule of its upcoming public advisory committee meetings in the Federal Register; FDA has implemented this recommendation. The annual publication of tentatively scheduled advisory committee meetings will provide both advisory committee members and the public with the opportunity, in advance, to schedule attendance at FDA's upcoming advisory committee meetings. Because the schedule is tentative, amendments to this notice will not be published in the Federal Register. However, changes to the schedule will be posted on the FDA advisory committees' Internet site located at http://www.fda.gov/oc/advisory/default.htm. The FDA will continue to publish a Federal Register notice 15 days in advance of each upcoming advisory committee meeting, to announce the meeting (21 CFR 14.20).

The following list announces FDA's tentatively scheduled advisory committee meetings for 2003. You may also obtain up-to-date meeting information by calling the Advisory Committee Information Line, 1-800-741-8138 (301-443-0572 in the Washington, DC area):

Committee Name | Dates of Meetings | Advisory Committee 5-Digit Information Line Code
OFFICE OF THE COMMISSIONER
Science Board to the Food and Drug Administration | April 9, November 6 | 12603
CENTER FOR BIOLOGICS EVALUATION AND RESEARCH
Allergenic Products Advisory Committee | April 8, November 18 | 12388
Biological Response Modifiers Advisory Committee | February 27-28, June 9-10, October 9-10 | 12389
Blood Products Advisory Committee | March 13-14, June 19-20, September 18-19, December 11-12 | 19516
Transmissible Spongiform Encephalopathies Advisory Committee | February 20-21, July 17-18, October 30-31 | 12932
Vaccines and Related Biological Products Advisory Committee | February 20-21, May 8-9, September 22-23, November 19-20 | 12391
CENTER FOR DRUG EVALUATION AND RESEARCH
Advisory Committee for Pharmaceutical Science | February 12-13, March 12-13, September 17, October 21-23 | 12539
Advisory Committee for Reproductive Health Drugs | March 24-25, August 18-19, November 13-14 | 12537
Anesthetic and Life Support Drugs Advisory Committee | June 26-27, December 11-12 | 12529
Anti-Infective Drugs Advisory Committee | January 8-9, March 4-5, June 10-11, October 15-16 | 12530
Antiviral Drugs Advisory Committee | April 29-30, September 19 | 12531
Arthritis Advisory Committee | January 30-31, September 5 | 12532
Cardiovascular and Renal Drugs Advisory Committee | January 6-7, May 29-30, September 15-16, December 11-12 | 12533
Dermatologic and Ophthalmic Drugs Advisory Committee | March 6-7, April 15-16, July 17-18, September 10-11 | 12534
Drug Safety and Risk Management Advisory Committee | April 24-25, September 18-19 | 12535
Endocrinologic and Metabolic Drugs Advisory Committee | January 13-15, June 12-13, September 11-12 | 12536
Gastrointestinal Drugs Advisory Committee | July 17 | 12538
Nonprescription Drugs Advisory Committee | March 6-7, June 13-14, September 16-17 | 12541
Oncologic Drugs Advisory Committee | March 3-4, March 12-13, June 10-11 | 12542
Peripheral and Central Nervous System Drugs Advisory Committee | July 18 | 12543
Psychopharmacologic Drugs Advisory Committee | February 27-28, September 4-5 | 12544
Pulmonary-Allergy Drugs Advisory Committee | May 15-16, November 6-7 | 12545
CENTER FOR FOOD SAFETY AND APPLIED NUTRITION
Food Advisory Committee | February 24-26, August 18-20 | 10564
Biotechnology Sub-Committee | March 24-25, October 15-16 | 10564
Dietary Supplements Sub-Committee | March 27-28, September 22-23 | 10564
Contaminants and Natural Toxicants Sub-Committee | March 6-7, September 4-5 | 10564
Nutrition Sub-Committee | April 28-29, November 3-4 | 10564
Food Additives Sub-Committee | June 19-20 | 10564
CENTER FOR DEVICES AND RADIOLOGICAL HEALTH
Device Good Manufacturing Practice Advisory Committee | No meetings planned | 12398
Medical Devices Advisory Committee:
Anesthesiology and Respiratory Therapy Devices Panel | March 27-28, May 7-8, September 4-5, November 10-11 | 12624
Circulatory System Devices Panel | February 21-22, April 24-25, June 26-27, August 28-29, October 23-24, December 11-12 | 12625
Clinical Chemistry and Clinical Toxicology Devices Panel | February 10-11, May 19, September 8-9, December 11-12 | 12514
Dental Products Panel | February 13-14, May 22-23, August 7-8, October 9-10 | 12518
Ear, Nose, and Throat Devices Panel | April 8-9, June 2-3, August 4-5, October 9-10, December 4-5 | 12522
Gastroenterology and Urology Devices Panel | January 17, April 4, July 25, October 17 | 12523
General and Plastic Surgery Devices Panel | February 27-28, April 10-11, July 23-24, October 23-24 | 12519
General Hospital and Personal Use Devices Panel | February 27-28, May 15-16, August 18-19, November 20-21 | 12520
Hematology and Pathology Devices Panel | March 14, June 20, October 3 | 12515
Immunology Devices Panel | March 17-18, June 9-10, September 15-16 | 12516
Medical Devices Dispute Resolution Panel | No meetings planned | 10232
Microbiology Devices Panel | March 27-28, May 5-6, August 7-8, October 16-17 | 12517
Molecular and Clinical Genetics Panel | April 24-25, July 17-18, November 13-14 | 10231
Neurological Devices Panel | March 6-7, June 23-24, September 18-19, December 8-9 | 12513
Obstetrics and Gynecology Devices Panel | March 3-4, June 9-10, September 8-9, November 3-4 | 12524
Ophthalmic Devices Panel | March 13-14, May 22-23, July 10-11, September 11-12, November 6-7 | 12396
Orthopaedic and Rehabilitation Devices Panel | February 20-21, May 29-30, August 27-28, November 20-21 | 12521
Radiological Devices Panel | February 4, May 20, August 12, November 18 | 12526
National Mammography Quality Assurance Advisory Committee | April 7-8, September 8-9 | 12397
Technical Electronic Product Radiation Safety Standards Committee | June 18 | 12399
CENTER FOR VETERINARY MEDICINE
Veterinary Medicine Advisory Committee | May 15, September 15 | 12548
NATIONAL CENTER FOR TOXICOLOGICAL RESEARCH
Advisory Committee on Special Studies Relating to the Possible Long-Term Health Effects of Phenoxy Herbicides and Contaminants | February 10-13, June 23-25 | 12560
Science Advisory Board to the National Center for Toxicological Research | June 3-5 | 12559

Dated: December 12, 2002.
William K. Hubbard,
Associate Commissioner for Policy and Planning.

[FR Doc. 02-31994 Filed 12-18-02; 8:45 am]

BILLING CODE 4160-01-S